DEPARTMENT OF HOUSING AND URBAN DEVELOPMENT

[Docket No. FR-4837-D-57]

Redelegation of Authority: Management and Marketing Contractors

AGENCY: Office of the Assistant Secretary for Housing—Federal Housing Commissioner, HUD.

ACTION: Notice of Redelegation of Authority.

SUMMARY: HUD is changing the manner in which it authorizes officials of its Management and Marketing contractors (M&Ms) to execute routine documents necessary for the management and sale of single family properties acquired by HUD in connection with its mortgage insurance program. Currently, that authority is granted by limited powers of attorney (LPOA). In this notice, certain officers and employees of HUD's M&Ms will be delegated authority to execute those routine documents. This notice will notify buyers, lenders, other real estate professionals, local governments and their recordation officials of the M&M employees' authority to execute and deliver these documents pursuant to this delegation rather than by LPOA.

DATES: Effective Date: July 18, 2005.

FOR FURTHER INFORMATION CONTACT: Wanda L. Sampedro, Director, Asset Management and Disposition Division, Office of Single Family Housing, Department of Housing and Urban Development, Washington, DC 20410-8000, telephone (202) 708-1672 (this is not a toll-free number). Persons with speech or hearing impairments may access this number through TTY by calling the toll-free Federal Information Relay Service at 800-877-8339.

SUPPLEMENTARY INFORMATION: Section 203(a) of the National Housing Act (12 U.S.C. 1709(a)) empowers the Secretary of HUD to insure eligible mortgages. Following the foreclosure of certain of those loans which have been in serious default, the holder of the insured loan may, pursuant to section 204(a) of the National Housing Act (12. U.S.C. 1710 (a)), elect, in consideration of the payment of a mortgage insurance claim, to convey to the Secretary the property which had secured the loan. Upon receipt of these properties, HUD sells them to the general public in order to reduce the loss to the Federal Treasury due to the payment of the insurance claims. Section 204(g) of the National Housing Act (12 U.S.C. 1710(g)) provides, in part, that the power to convey and to execute in the name of the Secretary deeds of conveyance, deeds of release, assignments and satisfactions of mortgages, and any other written instrument relating to real or personal property or any interest therein acquired by the Secretary pursuant to the National Housing Act may be exercised by an officer appointed by him, without the execution of any express delegation of power or power of attorney. In addition, this section provides that the Secretary, in his discretion, may delegate those powers by order or by power of attorney to any officer or agent he may appoint. These powers were delegated to the Assistant Secretary for Housing—Federal Housing Commissioner, with authority to redelegate, in a delegation of authority published in the Federal Register on August 20, 2003 (68 FR 50157).

HUD has contracted with private entities, M&Ms, to handle the management and sale of its inventory of single family acquired properties. Currently, HUD executes an LPOA authorizing the M&M contractor employees to execute, acknowledge and deliver any agreements of sale, special warranty deeds, form HUD-1 Settlement Statements and other instruments necessary in connection with property management and sale on behalf of HUD. HUD has determined that it would be more efficient to transfer this authority to the M&Ms by delegation of authority, rather than by LPOA.

Accordingly, the Assistant Secretary for Housing—Federal Housing Commissioner hereby redelegates as follows:

Section A. Authority Redelegated

The authority to execute all documents necessary in connection with the management and sale of residential real property acquired by HUD under its insured mortgage and asset management and disposition programs, including the authority to, acknowledge, seal, and deliver any agreements of sale, special warranty deeds, form HUD-1 Settlement Statements, and any other instrument that may be necessary in connection with property management and sales on behalf of the Department, is hereby redelegated to certain principals and/or officers of HUD's M&Ms whose identity will be maintained at its Web site located at: www.hud.gov/offices/hsg/sfh/reo/reo_home.cfm.

Section B. Revocation of Delegations

The Assistant Secretary for Housing—Federal Housing Commissioner may, at any time, revoke any of the authority redelegated in this notice. Revocation shall be effective upon removal of the affected principal or officer's name from the above Web site.

Authority: Section 204(g) of the National Housing Act (12 U.S.C. 1710(g)); section 7(d) of the Department of Housing and Urban Development Act (42 U.S.C. 3535(d)).

Dated: July 18, 2005.
Brian D. Montgomery,
Assistant Secretary for Housing—Federal Housing Commissioner.

[FR Doc. 05-14743 Filed 7-25-05; 8:45 am]

BILLING CODE 4210-27-P